DEPARTMENT OF COMMERCE

International Trade Administration

[A-427-098]

Anhydrous Sodium Metasilicate From France; Rescission of Antidumping Duty Administrative Review

AGENCY: Import Administration, International Trade Administration, Department of Commerce.

ACTION: Notice of Rescission of Antidumping Duty Administrative Review.

SUMMARY: On February 28, 2000, the Department of Commerce published in the Federal Register a notice initiating an administrative review of the antidumping duty order on anhydrous sodium metasilicate from France. This administrative review covered one French manufacturer/exporter of anhydrous sodium metasilicate, Rhone-Poulenc, for the period of January 1, 1999, through December 31, 1999. The Department of Commerce has now rescinded this review as a result of the absence of entries of subject merchandise by this company into the United States during the period of review.

EFFECTIVE DATE: August 11, 2000.

FOR FURTHER INFORMATION CONTACT: Mark Ross or Richard Rimlinger, Office of AD/CVD Enforcement, Group 1, Import Administration, International Trade Administration, U.S. Department of Commerce, 14th Street and Constitution Avenue, NW., Washington, DC 20230; telephone (202) 482-4794 or (202) 482-4477, respectively.

SUPPLEMENTARY INFORMATION:

Applicable Statute and Regulations

Unless otherwise indicated, all citations to the statute are references to the provisions effective January 1, 1995, the effective date of the amendments made to the Tariff Act of 1930 (the Act) by the Uruguay Round Agreements Act. In addition, unless otherwise indicated, all citations to the Department's regulations are to 19 CFR part 351 (1999).

Background

On January 13, 2000, the Department of Commerce (the Department) published in the Federal Register a notice of opportunity to request an administrative review of the antidumping duty order on anhydrous sodium metasilicate (ASM) from France (65 FR 2114). On January 28, 2000, the petitioner in this proceeding, PQ Corporation, submitted a request for an administrative review of sales by Rhone-Poulenc, a manufacturer/exporter of ASM, for the period of January 1, 1999, through December 31, 1999. The Department initiated an administrative review on February 28, 2000 (65 FR 10466).

On April 7, 2000, a company named Rhodia submitted a letter to the Department explaining that Rhone-Poulenc merged with Hoechst into a new group of companies called Aventis. Rhodia also explained that it was created as a result of the Aventis merger and is now the entity manufacturing ASM in France. Moreover, Rhodia stated that it did not export the subject merchandise to the United States during the period of review (POR).

On May 9, 2000, the Department sent a no-shipment inquiry regarding Rhone-Poulenc and Rhodia to the U.S. Customs Service. The purpose of this inquiry was to determine whether the Customs Service suspended liquidation of entry summaries of ASM during the POR. The Customs Service did not identify any suspended entry summaries of ASM manufactured and/or exported by Rhone-Poulenc or Rhodia during the POR. Therefore, we have determined that there were no entries of subject merchandise by these companies into the customs territory of the United States during the POR.

Pursuant to 19 CFR 351.213(d)(3), the Department may rescind an administrative review, in whole, or only with respect to a particular exporter or producer, if the Department concludes that, during the period covered by the review, there were no entries, exports, or sales of the subject merchandise. In light of the fact that we determined that the only company covered by the review did not enter the subject merchandise into the territory of the United States during the POR in question, we find that rescinding this review is appropriate. On July 14, 2000, we sent a letter to the petitioner to notify it of our findings and invited it to comment on our intent to rescind the review. The petitioner responded on July 18, 2000, stating that it does not object. Therefore, we are rescinding this administrative review.

The cash-deposit rate for Rhone-Poulenc/Rhodia will remain at 60 percent, the rate established in the most recently completed segment of this proceeding (64 FR 66881, November 30, 1999). This notice is being published in accordance with 19 CFR 351.213(d)(4).

Dated: August 4, 2000.
Richard W. Moreland,
Deputy Assistant Secretary for Import Administration.

[FR Doc. 00-20439 Filed 8-10-00; 8:45 am]

BILLING CODE 3510-DS-P